DEPARTMENT OF ENERGY

Federal Energy Regulatory Commission

[Docket Nos. RP03-271-002 and RP03-273-002]

Transcontinental Gas Pipe Line Corporation; Notice of Tariff Filing

March 19, 2003.

Take notice that on March 13, 2003 Transcontinental Gas Pipe Line Corporation (Transco) tendered for filing as part of its FERC Gas Tariff, Third Revised Volume No. 1, Fifth Revised Sheet No. 61 and First Revised Sheet No. 61A , effective April 1, 2003.

Transco states that the purpose of Transco's filing is to supplement Transco's Electric Power Tracker filing of February 28, 2003, Transco's Supplemental Electric Power Tracker filing of March 7, 2003, Transco's Fuel Tracker filing of February 28, 2003, and Transco's Supplemental Fuel Tracker filing of March 7, 2003. Transco states that it inadvertently failed to include in these filings the updated tariff sheets that reflect the trading fees and trading fuel retention percentages that are assessed when shippers and OBA parties trade imbalances across zones pursuant to Section 25 of the General Terms and Conditions of Transco's FERC Gas Tariff.

Transco states that it is serving copies of the instant filing to its affected customers, interested State Commissions and other interested parties.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 25, 2003.

Magalie R. Salas,
Secretary.

[FR Doc. 03-7217 Filed 3-25-03; 8:45 am]

BILLING CODE 6717-01-P